ENVIRONMENTAL PROTECTION AGENCY

40 CFR Part 52

[EPA-R08-OAR-2007-0622; FRL-8490-5]

Approval and Promulgation of Air Quality Implementation Plans; State of Colorado; Revised Denver PM10 Maintenance Plan

AGENCY: Environmental Protection Agency (EPA).

ACTION: Proposed rule.

SUMMARY: EPA is proposing to take direct final action approving a State Implementation Plan (SIP) revision submitted by the State of Colorado. On September 25, 2006, the Governor's designee submitted a revised plan for particulate matter with an aerodynamic diameter, less than or equal to 10 microns (PM10) for the Denver metropolitan area for the PM10 National Ambient Air Quality Standard (NAAQS). This revised maintenance plan addresses maintenance of the PM10 standard for a second ten-year period beyond redesignation, extends the horizon years, and contains revised transportation conformity budgets. EPA is approving the removal of Regulation No. 11, “Motor Vehicle Emissions Inspection Program” from Denver's revised PM10 maintenance plan. In addition, EPA is approving a transportation budget trading protocol for estimating the PM10 and nitrogen oxides (NOx) for each conformity determination. This action is being taken under section 110 of the Clean Air Act.

In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of the rule and if that provision may be severed from the remainder of the rule, EPA may adopt as final those provisions of the rule that are not the subject of an adverse comment.

DATES: Written comments must be received on or before December 6, 2007.

ADDRESSES: Submit your comments, identified by Docket ID No. EPA-R08-OAR-2007-0622, by one of the following methods:

• http://www.regulations.gov. Follow the on-line instructions for submitting comments.

• E-mail: videtich.callie@epa.gov and fiedler.kerri@epa.gov.

• Fax: (303) 312-6064 (please alert the individual listed in the FOR FURTHER INFORMATION CONTACT, if you are faxing comments).

• Mail: Callie A. Videtich, Director, Air and Radiation Program, Environmental Protection Agency (EPA), Region 8, Mailcode 8P-AR, 1595 Wynkoop Street, Denver, Colorado 80202-1129.

• Hand Delivery: Callie A. Videtich, Director, Air and Radiation Program, Environmental Protection Agency (EPA), Region 8, Mailcode 8P-AR, 1595 Wynkoop Street, Suite 300, Denver, Colorado 80202-1129. Such deliveries are only accepted Monday through Friday, 8 a.m. to 4:30 p.m., excluding Federal holidays. Special arrangements should be made for deliveries of boxed information.

Please see the direct final rule which is located in the Rules Section of this Federal Register for detailed instructions on how to submit comments.

FOR FURTHER INFORMATION CONTACT: Kerri Fiedler, Air and Radiation Program, Environmental Protection Agency (EPA), Region 8, Mailcode 8P-AR, 1595 Wynkoop Street, Denver, Colorado 80202-1129, phone (303) 312-6493, and e-mail at: fiedler.kerri@epa.gov.

SUPPLEMENTARY INFORMATION: See the information provided in the Direct Final action of the same title which is located in the Rules and Regulations Section of this Federal Register.

Authority: 42 U.S.C. 7401 et seq.

Dated: October 22, 2007.
Robert E. Roberts,
Regional Administrator, Region VIII.

[FR Doc. E7-21613 Filed 11-5-07; 8:45 am]

BILLING CODE 6560-50-P